DEPARTMENT OF DEFENSE

Office of the Secretary

[Docket ID: DoD-2014-OS-0050]

Privacy Act of 1974; System of Records; Correction

AGENCY: Defense Information Systems Agency, DoD.

ACTION: Notice to delete a System of Records Notice; correction.

SUMMARY: On April 9, 2014 (79 FR 19589), DoD published a notice deleting a Privacy Act System of Records notice, K270-01, DoD Digital Certificate Records. The Reason paragraph was written inaccurately, and this notice corrects the error.

FOR FURTHER INFORMATION CONTACT: Jeanette Weathers-Jenkins, 6916 Cooper Avenue, Fort Meade, MD 20755-7901, or (301) 225-8158.

SUPPLEMENTARY INFORMATION: On April 9, 2014 (79 FR 19589), DoD published a notice deleting a Privacy Act System of Records notice, K270-01, DoD Digital Certificate Records. Subsequent to the publication of that notice, DoD discovered that the Reason paragraph for the deletion was inaccurately written.

Correction

On page 19589, in the second column, in the “Deletions” paragraph, make the following correction:

Deletions:

K270-01, DoD Digital Certificate Records (October 9, 2001, 66 FR 51404).

Reason: Based on a recent review of DISA systems of records notices K270-01, DoD Digital Certificate Records (October 9, 2001, 66 FR 51404), is covered by the system of records notice K890.14 DoD, Identity Synchronization Service (IdSS) (December 8, 2010, 75 FR 76428) and therefore K270-01, DoD Digital Certificate Records can be deleted.

Dated: April 15, 2014.
Aaron Siegel,
Alternate OSD Federal Register Liaison Officer, Department of Defense.

[FR Doc. 2014-08902 Filed 4-17-14; 8:45 am]

BILLING CODE 5001-06-P